DEPARTMENT OF LABOR

Employment and Training Administration

[TA-W-64,466]

Mt. Pleasant Hosiery Mills, Inc. Mt. Pleasant, NC; Notice of Revised Determination on Reconsideration of Alternative Trade Adjustment Assistance

By letter dated January 28, 2009, a company official requested administrative reconsideration regarding Alternative Trade Adjustment Assistance (ATAA) applicable to workers of the subject firm. The negative determination was signed on December 16, 2008, and published in the Federal Register on January 14, 2009 (74 FR 2137).

The workers of Mt. Pleasant Hosiery Mills, Inc., Mt. Pleasant, North Carolina were certified eligible to apply for Trade Adjustment Assistance (TAA) on December 16, 2008.

The initial ATAA investigation determined that there was not a significant number of workers in the workers' firm that are 50 years of age or older.

In the request for reconsideration, the company official submitted revised employment numbers which show that a significant number or proportion of the worker group of the subject firm are fifty years of age or older.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Mt. Pleasant Hosiery Mills, Inc., Mt. Pleasant, North Carolina, who became totally or partially separated from employment on or after November 12, 2007 through December 16, 2010, are eligible to apply for trade adjustment assistance under Section 223 of the Trade Act of 1974 and are also eligible to apply for alternative trade adjustment assistance under Section 246 of the Trade Act of 1974.

Signed in Washington, DC this 11th day of February, 2009.
Elliott S. Kushner,
Certifying Officer, Division of Trade Adjustment Assistance.

[FR Doc. E9-3732 Filed 2-20-09; 8:45 am]

BILLING CODE 4510-FN-P